DEPARTMENT OF TRANSPORTATION

Federal Aviation Administration

Seventieth Meeting: RTCA Special Committee 147: Minimum Operational Performance Standards for Traffic Alert and Collision Avoidance Systems Airborne Equipment

AGENCY: Federal Aviation Administration (FAA), DOT.

ACTION: Notice of RTCA Special Committee 147: Minimum Operational Performance Standards for Traffic Alert and Collision Avoidance Systems Airborne Equipment meeting.

SUMMARY: The FAA is issuing this notice to advise the public of a meeting of RTCA Special Committee 147: Minimum Operational Performance Standards for Traffic Alert and Collision Avoidance Systems Airborne Equipment.

DATES: The meeting will be held May 18-20, 2010 from 9 a.m.-5 p.m. SC-147 Plenary Session: May 18th & 19th and SC-147 Working Group Planning and organizational meetings May 20th.

ADDRESSES: The meeting will be held at RTCA, Inc. 1828 L. Street, Suite 805, Washington, DC 20036.

FOR FURTHER INFORMATION CONTACT: RTCA Secretariat, 1828 L Street, NW., Suite 805, Washington, DC 20036.; telephone (202) 833-9339; fax (202) 833-9434; Web-site http://www.rtca.org.

SUPPLEMENTARY INFORMATION: Pursuant to section 10(a)(2) of the Federal Advisory Committee Act (Pub. L. 92-463, 5 U.S.C., Appendix 2), notice is hereby given for a RTCA Special Committee 147: Minimum Operational Performance Standards for Traffic Alert and Collision Avoidance Systems Airborne Equipment meeting. The agenda will include:

SC-147 Plenary Agenda

• Agenda Item 1. Opening Plenary Session.

• SC-147 Co-Chairmen's opening remarks.

• Introductions—See attendance list.

• Approval of Agenda—Agenda was approved as written.

• Approval of Minutes from 69th meeting of SC-147.

• Agenda Item 2. Revised Terms of Reference for SC-147.

• Agenda Item 3. TCAS Program Office Activities.

• Monitoring Efforts/TRAMS/TOPA.

• TCAS Development Scenarios Paper.

• Independence considerations for potential “NextCAS.”

• Horizontal Maneuvering.

• Agenda Item 4. AVS and other FAA activities.

• TSOs, etc.

• ASIAS/CAST/CAS Steering Committee.

• Agenda Item 5. EUROCAE WG-75: Status of current activities.

• Agenda Item 6. Narrow-band receivers (ACSS).

• Agenda Item 7: Other related TCAS efforts from industry.

• Airbus automating responses for TCAS RAs (SC220).

• Agenda Item 8: 2nd look at Revised Terms of Reference for SC-147.

• Deliverables

• Schedules

• SC-147 Organization 7 working arrangements

• Agenda Item 10: Closing Session.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 13, 2010.
Francisco Estrada C.,
RTCA Advisory Committee.

[FR Doc. 2010-9028 Filed 4-19-10; 8:45 am]

BILLING CODE 4910-13-P